DEPARTMENT OF ENERGY

Federal Energy Regulatory Commission

Project No. 2631-007 Massachusetts

Woronoco Hydro, LLC, Notice of Availability of Environmental Assessment

February 27, 2002.

In accordance with the National Environmental Policy Act of 1969 and the Federal Energy Regulatory Commission's (Commission) regulations, 18 CFR part 380 (Order No. 486, 52 FR 47897), the Office of Energy Projects has reviewed the application for license for the Woronoco Hydroelectric Project, located on the Westfield River in Hampden County, Massachusetts. Commission staff has prepared an Environmental Assessment (EA) for the project.

The EA contains the staff's analysis of the potential environmental impacts of the project, and concludes that licensing the project, with appropriate environmental protective measures, would not constitute a major federal action that would significantly affect the quality of the human environment.

A copy of the EA is available for review at the Commission's Public Reference Room, located at 888 First Street, NE, Washington, DC 20426, or by calling (202) 208-1371. The EA may be viewed on the Web at http://www.ferc.gov using the “RIMS” link, select “Docket #” and follow the instructions (call 202-208-2222 for assistance).

Any comments (an original and 8 copies) should be filed within 30 days from the date of this notice and should be addressed to Magalie R. Salas, Secretary, Federal Energy Regulatory Commission, 888 First Street, NE, Washington, DC 20426. Comments may be filed electronically via the internet in lieu of paper [see 18 CFR 385.2001(a)(1)(iii) and the instructions on the Commission's web site under the “e-filing” link. For further information, contact Allan E. Creamer at (202) 219-0365 or allan.creamer@ferc.gov.

Magalie R. Salas,
Secretary.

[FR Doc. 02-5173 Filed 3-4-02; 8:45 am]

BILLING CODE 6717-01-P